DEPARTMENT OF ENERGY

Federal Energy Regulatory Commission

[Docket No. ER97-1523-052, et al.]

Central Hudson Gas & Electric Corporation, et al.; Electric Rate and Corporate Regulation Filings

June 29, 2000.

Take notice that the following filings have been made with the Commission:

1. Central Hudson Gas & Electric Corporation

[Docket No. ER97-1523-052]

Take notice that on June 22, 2000, Central Hudson Gas & Electric Corporation, tendered for filing a compliance filing in the above-referenced docket.

Comment date: July 13, 2000, in accordance with Standard Paragraph E at the end of this notice.

2. Alliant Energy Corporate Services, Inc.

[Docket No. ER00-1022-001]

Take notice that on June 22, 2000, Alliant Energy Corporate Services, Inc. (Alliant Energy) on behalf of Interstate Power Company (IPC) and Wisconsin Power & Light (WPL), tendered for filing a Amendment of Negotiated Capacity Transaction (Agreement) between IPC and WPL for the period January 1, 2000 through December 31, 2000. The Agreement was negotiated to provide service under the Alliant Energy System Coordination and Operating Agreement among IES Utilities Inc., Interstate Power Company, Wisconsin Power & Light Company and Alliant Energy.

Comment date: July 13, 2000, in accordance with Standard Paragraph E at the end of this notice.

3. California Independent System Operator Corporation

[Docket Nos. ER98-992-003; ER98-996-002; ER98-1002-002; ER98-1310-002; ER98-1910-002; ER98-1912-002; ER98-1930-002; ER98-1931-002; ER98-1933-002; ER98-1935-002; and ER98-2115-002]

Take notice that on June 23, 2000, the California Independent System Operator Corporation, tendered for filing numerous Participating Generator Agreements for acceptance by the Commission. The purpose of the filing is to comply with the Commission's Letter Order of February 24, 2000.

The ISO states that this filing has been served on the persons listed on the official service list in Docket Nos. ER98-992-000, et al. and the California Public Utilities Commission.

Comment date: July 14, 2000, in accordance with Standard Paragraph E at the end of this notice.

4. Alliant Energy Corporate Services, Inc.

[Docket No. ER00-1023-001]

Take notice that on June 26, 2000, Alliant Energy Corporate Services, Inc. (Alliant Energy) on behalf of Interstate Power Company (IPC) and Wisconsin Power & Light (WPL), tendered for filing a Amendment of Negotiated Capacity Transaction (Agreement) between IPC and WPL for the period January 1, 2000 through December 31, 2000. The Agreement was negotiated to provide service under the Alliant Energy System Coordination and Operating Agreement among IES Utilities Inc., Interstate Power Company, Wisconsin Power & Light Company and Alliant Energy.

Comment date: July 17, 2000, in accordance with Standard Paragraph E at the end of this notice.

5. Allegheny Energy Service Corporation, on behalf of Monongahela Power Company, The Potomac Edison Company and West Penn Power Company (Allegheny Power)

[Docket No. ER00-1262-004]

Take notice that on June 26, 2000, Allegheny Energy Service Corporation on behalf of Monongahela Power Company, The Potomac Edison Company and West Penn Power Company (Allegheny Power), tendered for filing Amendment No. 2 to its revisions to its Open Access Transmission Tariff (OATT) in compliance with the Commission's Order of April 13, 2000 at Docket No. ER00-1262-000, 91 FERC ¶ 61,044.

Amendment No. 2 corrects the effective date of Attachment K and includes changes accepted for filing by the Commission after the initial compliance filing on May 12, 2000.

Copies of the filing have been provided to jurisdictional customers, the Public Utilities Commission of Ohio, the Pennsylvania Public Utility Commission, the Maryland Public Service Commission, the Virginia State Corporation Commission, and the West Virginia Public Service Commission.

Comment date: July 17, 2000, in accordance with Standard Paragraph E at the end of this notice.

6. Alliant Energy Corporate Services, Inc.

[Docket No. ER00-2384-001]

Take notice that on June 26, 2000, Alliant Energy Corporate Services, Inc. (Alliant Energy) on behalf of Interstate Power Company (IPC) and IES Utilities tendered for filing a Amendment to 240 MW Internal Capacity Contract between IPC and IES. The Agreement was negotiated to provide service under the Alliant Energy System Coordination and Operating Agreement among IES Utilities Inc., Interstate Power Company, Wisconsin Power & Light Company and Alliant Energy.

Comment date: July 17, 2000, in accordance with Standard Paragraph E at the end of this notice.

7. AES Eastern Energy, L.P.

[Docket No. ER00-2463-001]

Take notice that on June 22, 2000, AES Eastern Energy, L.P. (AES Eastern), tendered for filing an amendment to its filing of two long-term service agreements between AES Eastern and Aquila Risk Management Corporation. The amendment clarifies that there are no charges for transmission or ancillary services included in the contract rates.

Comment date: July 13, 2000, in accordance with Standard Paragraph E at the end of this notice.

8. DOW Pipeline Company

[Docket No. ER00-2529-001]

Take notice that on June 22, 2000, Dow Pipeline Company (DPL), tendered for filing a revised FERC Electric Rate Schedule No. 1 as part of its petition for waivers and blanket approvals under various regulations of the Commission and for an order accepting its FERC Electric Rate Schedule No. 1, which was filed on May 17, 2000, with an effective date of May 18, 2000, the day following the date if its filing.

DPL intends to engage in electric power and energy transactions as a marketer. In transactions where DPL sells electric energy, it proposed to make such sales on rates, terms and conditions to be mutually agreed to with the purchasing party. Neither DPL nor any of its affiliates is in the business of transmitting or distributing electric power.

Rate Schedule No. 1 provides for the sale of energy and capacity at agreed prices.

Comment date: July 13, 2000, in accordance with Standard Paragraph E at the end of this notice.

9. MidAmerican Energy Company

[Docket No. ER00-2827-001]

Take notice that on June 26, 2000, MidAmerican Energy Company (MidAmerican), 666 Grand Avenue, Des Moines, Iowa 50309, re-submitted for filing with the Commission a Firm Transmission Service Agreement with Alliant Energy Corporate Services, Inc. (Alliant), dated May 31, 2000, entered into pursuant to MidAmerican's Open Access Transmission Tariff. MidAmerican states that the purpose of the re-submission is to correct the Service Agreement Designation Cover Sheet and the form of notice.

MidAmerican requests an effective date of June 1, 2000, for the Agreement with Alliant, and accordingly seeks a waiver of the Commission's notice requirement. MidAmerican has served a copy of the filing on Alliant, the Iowa Utilities Board, the Illinois Commerce Commission and the South Dakota Public Utilities Commission.

Comment date: July 17, 2000, in accordance with Standard Paragraph E at the end of this notice.

10. Madison Gas and Electric Company

[Docket No. ER00-2932-000]

Take notice that on June 23, 2000, Madison Gas and Electric Company (MGE), tendered for filing a service agreement under MGE's Market-Based Power Sales Tariff with Alliant Energy.

MGE requests this agreement be effective the date the agreement was filed with the FERC.

Comment date: July 14, 2000, in accordance with Standard Paragraph E at the end of this notice.

11. Otter Tail Power Company

[Docket No. ER00-2933-000]

Take notice that on June 23, 2000, Otter Tail Power Company (OTP), tendered for filing a Service Agreement between OTP and El Paso Merchant Energy, L.P. (El Paso). The Service Agreement allows El Paso to purchase capacity and/or energy under OTP's Coordination Sales Tariff.

Comment date: July 14, 2000, in accordance with Standard Paragraph E at the end of this notice.

12. California Independent System Operator Corporation

[Docket No. ER00-2934-000]

Take notice that on June 26, 2000, the California Independent System Operator Corporation (ISO), tendered for filing an Amendment to the Interconnected Control Area Operating Agreement (ICAOA) between the ISO and the Los Angeles Department of Water and Power (LADWP). The ISO states that the Amendment modifies the ICAOA to allow the LADWP to supply Scheduling Coordinators with Regulation Service, pursuant to ISO Tariff Amendment No. 25.

The ISO requests that the Amendment be made effective as of June 22, 2000.

The ISO states that this filing has been served on the Los Angeles Department of Water and Power and the California Public Utilities Commission.

Comment date: July 17, 2000, in accordance with Standard Paragraph E at the end of this notice.

13. Madison Gas and Electric Company

[Docket No. ER00-2935-000]

Take notice that on June 23, 2000, Madison Gas and Electric Company (MGE), tendered for filing with the Federal Energy Regulatory Commission, in accordance with the Commission's May 8, 2000 “Order Accepting Filing” in Docket No. ER00-1666-000, 91 FERC par. 61,122 (2000), notice that MGE's Open Access Transmission Tariff shall be considered modified to conform to the North American Electric Reliability Council's Transmission Loading Relief Procedures accepted by the Commission in its May 8 Order, except that MGE will not be providing Next Hour Market Service.

Copies of the filing have been served on MGE's transmission service customers, on the Public Service Commission of Wisconsin and on the official service list compiled by the Secretary in Docket No. ER00-1666-000.

Comment date: July 14, 2000, in accordance with Standard Paragraph E at the end of this notice.

14. PJM Interconnection, L.L.C.

[Docket No. ER00-2936-000]

Take notice that on June 23, 2000, PJM Interconnection, L.L.C. (PJM), tendered for filing executed service agreements for firm point-to-point transmission service, and non-firm point-to-point transmission service under the PJM Open Access Transmission Tariff with The Legacy Energy Group, LLC (Legacy).

Copies of this filing were served upon Legacy and the state commissions within the PJM control area.

Comment date: July 14, 2000, in accordance with Standard Paragraph E at the end of this notice.

15. ISO New England, Inc.

[Docket No. ER00-2937-000]

Take notice that on June 26, 2000, ISO New England Inc. (the ISO), tendered for filing pursuant to Section 205 of the Federal Power Act, a request for expedited approval of revisions to the NEPOOL Market Rules 6, 8 and 9 in order to extend existing reserve market limitations through December 31, 2000.

Copies of said filing have been served upon the Secretary of the NPC, the Participants in the New England Power Pool, non-Participant transmission customers and upon the New England State Governors and Regulatory Commissions.

Comment date: July 17, 2000, in accordance with Standard Paragraph E at the end of this notice.

16. Virginia Electric and Power Company

[Docket No. ER00-2938-000]

Take notice that on June 23, 2000, Virginia Electric and Power Company (Virginia Power or the Company), tendered for filing the following Service Agreements with Sempra Energy Trading Corporation (Transmission Customer):

1. Amended Service Agreement for Firm Point-to-Point Transmission Service designated First Revised Service Agreement No. 253 under the Company's FERC Electric Tariff, First Revised Volume No. 5;

2. Amended Service Agreement for Non-Firm Point-to-Point Transmission Service designated First Revised Service Agreement No. 49 under the Company's FERC Electric Tariff, Original Volume No. 5.

The foregoing Service Agreements are tendered for filing under the Open Access Transmission Tariff to Eligible Purchasers dated July 14, 1997. Under the tendered Service Agreements, Virginia Power will provide point-to-point service to the Transmission Customer under the rates, terms and conditions of the Open Access Transmission Tariff.

The Company requests an effective date of May 25, 2000, the date service was first provided to the customer under the amended agreements.

Copies of the filing were served upon Sempra Energy Trading Corporation, the Virginia State Corporation Commission, and the North Carolina Utilities Commission.

Comment date: July 14, 2000, in accordance with Standard Paragraph E at the end of this notice.

17. The Dayton Power and Light Company

[Docket No. ER00-2939-000]

Take notice that on June 23, 2000, The Dayton Power and Light Company (Dayton), tendered for filing service agreements establishing with Allegheny Energy Supply Company, LLC and HQ Energy Services US as customers under the terms of Dayton's Open Access Transmission Tariff.

Dayton requests an effective date of one day subsequent to this filing for the service agreements. Accordingly, Dayton requests waiver of the Commission's notice requirements.

Copies of this filing were served upon with Allegheny Energy Supply Company, LLC and HQ Energy Services US and the Public Utilities Commission of Ohio.

Comment date: July 14, 2000, in accordance with Standard Paragraph E at the end of this notice.

18. The Dayton Power and Light Company

[Docket No. ER00-2940-000]

Take notice that on June 23, 2000, The Dayton Power and Light Company (Dayton), tendered for filing service agreements establishing Allegheny Energy Supply Company, LLC and HQ Energy Services US as customers under the terms of Dayton's Open Access Transmission Tariff.

Dayton requests an effective date of one day subsequent to this filing for the service agreements. Accordingly, Dayton requests waiver of the Commission's notice requirements.

Copies of this filing were served upon establishing Allegheny Energy Supply Company, LLC and HQ Energy Services US and the Public Utilities Commission of Ohio.

Comment date: July 14, 2000, in accordance with Standard Paragraph E at the end of this notice.

19. Carolina Power & Light Company

[Docket No. ER00-2941-000]

Take notice that on June 23, 2000, Carolina Power & Light Company (CP&L), tendered for filing a Service Agreement for Short-Term Firm Point-to-Point Transmission Service with Cinergy Services, Inc. and a Service Agreement for Non-Firm Point-to-Point Transmission Service with Cinergy Services, Inc. Service to this Eligible Customer will be in accordance with the terms and conditions of Carolina Power & Light Company's Open Access Transmission Tariff.

CP&L is requesting an effective date of June 20, 2000 for each Agreement.

Copies of the filing were served upon the North Carolina Utilities Commission and the South Carolina Public Service Commission.

Comment date: July 14, 2000, in accordance with Standard Paragraph E at the end of this notice.

20. Northern States Power Company (Minnesota), Northern States Power Company (Wisconsin)

[Docket No. ER00-2942-000]

Take notice that on June 23, 2000, Northern States Power Company (Minnesota) and Northern States Power Company (Wisconsin) (jointly NSP), tendered for filing a notice that the NSP open access transmission tariff has been modified, effective May 1, 2000, to incorporate the revised Mid-Continent Area Power Pool (MAPP) Line Loading Relief (LLR) procedures proposed in Docket No. ER99-2649-002.

Comment date: July 14, 2000, in accordance with Standard Paragraph E at the end of this notice.

21. Candela Energy Corporation

[Docket No. ER00-2945-000]

Take notice that on June 21, 2000, Candela Energy Corporation (Candela) petitioned the Commission for acceptance of Candela Rate Schedule FERC No. 1; the granting of certain blanket approvals, including the authority to sell electricity at market-based rates; and the waiver of certain Commission Regulations.

Candela intends to engage in wholesale electric power and energy purchases and sales as a marketer. Candela is not in the business of generating or transmitting electric power. Candela is a privately-owned company without affiliates and is not engaged in any other businesses.

Comment date: July 14, 2000, in accordance with Standard Paragraph E at the end of this notice.

22. Commonwealth Edison Company

[Docket No. ER00-2946-000]

Take notice that on June 26, 2000, Commonwealth Edison Company (ComEd), tendered for filing an unexecuted Interconnection Agreement with Rocky Road Power, LLC (Rocky Road).

ComEd requests an effective date of June 27, 2000 and accordingly seeks waiver of the Commission's notice requirements.

Copies of the filing were served on Rocky Road and the Illinois Commerce Commission.

Comment date: July 17, 2000, in accordance with Standard Paragraph E at the end of this notice.

23. Metropolitan Edison Company

[Docket No. ER00-2947-000]

Take notice that on June 26, 2000, Metropolitan Edison Company (MetEd)(doing business as GPU Energy), tendered for filing Notice of Cancellation of Service Agreement No. 4 under FERC Electric Tariff Volume No 2, between Metropolitan Edison Company and the Borough of Lewisberry.

MetEd requests that cancellation be effective June 1, 2000.

Comment date: July 17, 2000, in accordance with Standard Paragraph E at the end of this notice.

24. Pennsylvania Electric Company

[Docket No. ER00-2948-000]

Take notice that on June 26, 2000, Pennsylvania Electric Company (Penelec) (doing business as GPU Energy), tendered for filing a Notice of Cancellation of the Service Agreement under FERC Electric Tariff Volume No. 1, between Pennsylvania Electric Company and the Borough of Berlin.

Penelec requests that cancellation be effective June 1, 2000.

Comment date: July 17, 2000, in accordance with Standard Paragraph E at the end of this notice.

25. Pennsylvania Electric Company

[Docket No. ER00-2949-000]

Take notice that on June 26, 2000, Pennsylvania Electric Company (Penelec) (doing business as GPU Energy), tendered for filing a Notice of Cancellation of Service Agreement No. 8 under FERC Electric Tariff Volume No. 1, between Pennsylvania Electric Company and the Borough of Hooversville.

Penelec requests that cancellation be effective June 1, 2000.

Comment date: July 17, 2000, in accordance with Standard Paragraph E at the end of this notice.

26. Metropolitan Edison Company

[Docket No. ER00-2950-000]

Take notice that on June 26, 2000, Metropolitan Edison Company (MetEd) (doing business as GPU Energy), tendered for filing Notice of Cancellation of Service Agreement No. 5 under FERC Electric Tariff Volume No. 2, between Metropolitan Edison Company and the Borough of Royalton.

MetEd requests that cancellation be effective June 1, 2000.

Comment date: July 17, 2000, in accordance with Standard Paragraph E at the end of this notice.

27. Pennsylvania Electric Company

[Docket No. ER00-2951-000]

Take notice that on June 26, 2000, Pennsylvania Electric Company (Penelec) (doing business as GPU Energy), tendered for filing Notice of Cancellation of Service Agreement No. 3 under FERC Electric Tariff Volume No. 1, between Pennsylvania Electric Company and the Borough of Smethport.

Penelec requests that cancellation be effective June 1, 2000.

Comment date: July 17, 2000, in accordance with Standard Paragraph E at the end of this notice.

28. Pennsylvania Electric Company

[Docket No. ER00-2952-000]

Take notice that on June 26, 2000, Pennsylvania Electric Company (Penelec) (doing business as GPU Energy), tendered for filing Notice of Cancellation of Service Agreement No. 7 under FERC Electric Tariff Volume No. 1, between Pennsylvania Electric Company and the Borough of East Conemaugh.

Penelec requests that cancellation be effective December 1, 2000.

Comment date: July 17, 2000, in accordance with Standard Paragraph E at the end of this notice.

29. Pennsylvania Electric Company

[Docket No. ER00-2953-000]

Take notice that on June 26, 2000, Pennsylvania Electric Company (Penelec) (doing business as GPU Energy), tendered for filing a Notice of Cancellation of Service Agreement No. 9 under FERC Electric Tariff Volume No. 1, between Pennsylvania Electric Company and the Borough of Summerhill.

Penelec requests that cancellation be effective December 1, 2000.

Comment date: July 17, 2000, in accordance with Standard Paragraph E at the end of this notice.

30. Pennsylvania Electric Company

[Docket No. ER00-2954-000]

Take notice that on June 26, 2000, Pennsylvania Electric Company (Penelec) (doing business as GPU Energy), tendered for filing a Notice of Cancellation of Service Agreement No. 2 under FERC Electric Tariff Volume No. 1, between Pennsylvania Electric Company and the Borough of Girard.

Penelec requests that cancellation be effective June 1, 2000.

Comment date: July 17, 2000, in accordance with Standard Paragraph E at the end of this notice.

31. Metropolitan Edison Company

[Docket No. ER00-2955-000]

Take notice that on June 26, 2000, Metropolitan Edison Company (MetEd) (doing business as GPU Energy), tendered for filing Notice of Cancellation of Service Agreement No. 1 under FERC Electric Tariff Volume No. 2, between Metropolitan Edison Company and the Borough of Goldsboro.

MetEd requests that cancellation be effective June 1, 2000.

Comment date: July 17, 2000, in accordance with Standard Paragraph E at the end of this notice.

32. Cleco Utility Group Inc.

[Docket No. ER00-2959-000]

Take notice that on June 23, 2000, Cleco Utility Group, Inc., tendered for filling Non-Firm and Short term firm point-to-point transmission service agreements under its Open Access Transmission Tariff with Dynegy Power Marketing, Inc.

Comment date: July 17, 2000, in accordance with Standard Paragraph E at the end of this notice.

33. Mid-Continent Area Power Pool, Madison Gas and Electric Company

[Docket No. ER00-2960-000]

Take notice that on June 23, 2000, Madison Gas and Electric Company (MGE), tendered for filing Notice of Modification of Tariff in response to the Commission's May 26, 2000 Order Granting Interim Approval in Mid-Continent Area Power Pool (MAPP) Docket ER-2317-000, 91 FERC par. 61,184 (2000). The May 26, Order directed each public utility member of MAPP providing transmission service to file with the Commission a notice that its tariff is modified to incorporate MAPP's proposed line loading relief (LLR) procedures. Accordingly, MGE gave notice that its tariff is deemed modified to incorporate MAPP's LLR procedures.

Copies of the filing have been served on MGE's transmission service customers, on the Public Service Commission of Wisconsin and on the official service list compiled by the Secretary in Docket No. ER00-2317-000.

Comment date: July 17, 2000, in accordance with Standard Paragraph E at the end of this notice.

34. Cinergy Capital & Trading, Inc., CinCap VI, LLC, Sunbury Holdings, LLC

[Docket No. EC00-109-000]

Take notice that on June 27, 2000, Cinergy Capital & Trading, Inc. (CCT), CinCap VI, LLC (CinCap VI) and Sunbury Holdings, LLC (Sunbury) (collectively, the Applicants), tendered for filing pursuant to Section 203 of the Federal Power Act a joint application for authority for CCT to sell 100 percent of its membership interests in CinCap VI to Sunbury, and to assign CCT's interest in an interconnection agreement with PP&L, Inc. to CinCap VI.

The Applicants request that their joint application be made effective as soon as possible so that the transactions may close by July 31, 2000.

Comment date: July 17, 2000, in accordance with Standard Paragraph E at the end of this notice.

35. Griffiss Local Development Corporation

[Docket No. EL99-73-001]

Take notice that on June 26, 2000, Griffiss Local Development Corporation filed a Notice of Execution of Settlement Agreement Between Oneida County Industrial Development Agency/Griffiss local Development Corporation and Niagara Mohawk Power Corporation.

Comment date: July 26, 2000, in accordance with Standard Paragraph E at the end of this notice.

36. Fresno Cogeneration Partners, L.P.

[Docket Nos. QF88-134-002 and EL00-87-000]

Take notice that on June 23, 2000, Fresno Cogeneration Partners, L.P. (FCP) filed a request for limited waiver of the operating and efficiency standards of the Commission's regulations for qualifying cogeneration facilities as a result of reduced levels of operation as a result of the ongoing efforts of FCP to restructure the contractual arrangements with its utility purchaser of power.

Comment date: July 24, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17210 Filed 7-6-00; 8:45 am]

BILLING CODE 6717-01-P